DEPARTMENT OF HOUSING AND URBAN DEVELOPMENT

[FR-5386-N-09]

Privacy Act of 1974; Notification of a New Privacy Act System of Records, Rapid Re-Housing for Homeless Families Data Files

AGENCY: Office of the Chief Information Officer.

ACTION: Notification of a new SORN.

SUMMARY: Housing Urban Development (HUD) proposes to establish a new Privacy Act of 1974 (5 U.S.C. 552a), SORN. The proposed new system of record is the Rapid Re-Housing for Homeless Families Data (RRHFD) Files. The records system will be used by HUD's Office of Policy Development and Research (PD&R) to evaluate the effectiveness of the RRHFD Program, which is a demonstration program that was authorized by Congress in the Consolidated Appropriations Act, 2008 (Pub. L. 110-161). Refer to the “Objective” caption to obtain detailed information about the purpose of this study.

Comments Due Date: October 28, 2010.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: Donna Robinson-Staton, Departmental Privacy Act Officer, 451 Seventh Street, SW., Room 2256, Washington, DC 20410, Telephone Number (202) 402-8047. (This is not a toll-free number.) A telecommunication device for hearing-and speech-impaired individuals (TTY) is available at (800) 877-8339 (Federal Information Relay Service).

SUPPLEMENTARY INFORMATION: Pursuant to the Privacy Act of 1974 (5 U.S.C. 552a), as amended notice is given that HUD proposes to establish a new SORN as identified as RRHFD.

Title 5 U.S.C. 552a(e)(4) and (11) provide that the public be afforded a 30-day period in which to comment on the new system of records.

The new system report was submitted to the Office of Management and Budget (OMB), the Senate Committee on Governmental Affairs, and the House Committee on Government Reform pursuant to paragraph 4c of Appendix 1 to OMB Circular No. A-130, “Federal Responsibilities for Maintaining Records About Individuals,” July 25, 1994 (59 FR 37914).

Authority: 5 U.S.C. 552a 88 Stat. 1896; 42 U.S.C. 3535(d).

Dated: September 22, 2010.
Jerry E. Williams,
Chief Information Officer.

System name:

Rapid Re-Housing for Homeless Families Data Files.

System location:

Rapid Re-Housing for Homeless Families Data Files are to be located at Abt Associates Inc., 55 Wheeler Street, Cambridge, MA; Abt Associates Inc., 4550 Montgomery Avenue, Bethesda, MD; and the AT&T Datacenter, 15 Enterprise Ave., Secaucus, NJ 07094.

Categories of individuals covered by the system:

Families enrolled in RRHFD.

Categories of records in the system:

Name; Social Security Number; study identifier; birth date; contact information (home address, telephone numbers, e-mail address); demographic characteristics of the family head (e.g., race/ethnicity, gender, marital status); number of children and other adults in the household (a roster of adults and children with the family head at baseline and spouse/partner and children not with the family head at baseline, and characteristics of these family members); income sources and total family income; employment and earnings for the family head; current housing conditions, rent and rental assistance received; housing history since program completion; barriers to housing; homeless program participation; contact information for landlord, family and friends; and study tracking information.

Authority for maintenance of the system:

Sec. 501, 502, Housing and Urban Development Act of 1970 (Pub. L. 91-609), 12 U.S.C. 1701z-1, 1701z-2.

Purpose:

The FY 2008 budget for the U.S. Department of Housing and Urban Development (H.R. 2764) included a $25 million set-aside to implement a Rapid Re-housing for Families Demonstration Program “expressly for the purposes of providing housing and services to homeless families.” Also included in the legislation was a requirement that there be an evaluation of the demonstration program “in order to evaluate the effectiveness of the rapid re-housing approach in addressing the needs of homeless families.” The underlying presumption of the rapid re-housing program posits that providers, through the use of an assessment tool they have developed for the program, will be able to predict with considerable confidence which homeless families, with a minimum amount of housing and supportive services, will be able to achieve housing stability and self-sufficiency at the conclusion of the program. In order to measure the efficacy of the program, HUD will seek to enroll approximately 1,200 participating families into the outcomes evaluation. A follow-up survey will be administered to each participating family 12 months after completion of the program. The survey will collect data related to housing stability; self-sufficiency; employment and earnings; family well-being; and health.

Routine uses of records maintained in the system, including categories of users and the purposes of such uses:

• Authorized Abt/SRBI staff will use the data files in the Web-based study contact database to track study participants and locate participants for 12-month follow-up interviews. Staff will use the data files to match with other datasets for tracking purposes, such as change of address and credit bureau databases.

• A limited number of authorized Abt researchers will access personally identifying information to link data from one phase of data collection to another or to match primary study data with other datasets for data collection purposes (e.g., matching records from primary data collection with local Homeless management Information Systems (HMIS) administrative data).

• Authorized Abt researchers will also use the data for statistical analysis and to develop findings for this research study.

• Authorized Abt researchers may use the data to create a public use file of non-identifiable data for disclosure to authorized researchers for other purposes.

• If the Department suspects or has confirmed that the security or confidentiality of information in the system of records has been compromised; or if the Department has determined that as a result of the suspected or confirmed compromise there is a risk of harm to economic or property interests, identity theft or fraud, or harm to the security or integrity of this system or other systems or programs (whether maintained by the HUD or another agency or entity) that rely upon the compromised information; then the disclosure made to such agencies, entities, and persons is reasonably necessary to assist in connection with the HUD's efforts to respond to the suspected or confirmed compromise and prevent, minimize, or remedy such harm.

Each data user's permissions will be defined based on the user's role on the project. For example, the local site interviewer will be able to review data for study participants only for his or her own specific site. Study data will be aggregated or de-identified at the highest level possible for each required, authorized use.

Abt Associates will not use or disclose the data for any purposes other than for the “The Evaluation of the Rapid Re-Housing for Families Demonstration Program.” Abt Associates will not disclose the data to additional parties without the written authority of the providing organization, except where required by law.

Policies and practices for storing, retrieving, accessing, retaining, and disposing of records in the system:

Safeguards:

The following safeguards shall be used to secure data in storage, retrieval, during access, and disposal.

• All personal data (identifiable and de-identified data analyses files) will be encrypted and maintained on a secure workstation or server that is protected by a firewall, complex passwords, and multi-authentication factors, in a directory that can only be accessed by the network administrators and the analysts actively working on the data.

• Data on the secure server will be encrypted using an industry standard algorithm incorporating at least 128-bit encryption. The decryption key will only be known to analysts actively working with the data.

• Separate data files will be maintained for each questionnaire and for identifying information. Data files used for analysis will be stored in a separate location from files with identifying information to minimize the risk that an unauthorized user could use the unique identification number to link de-identified files with the identifiers. The unique identification number will be protected through multi-mode authentication, in addition to encryption technologies.

• Access rights to the data are granted to limited researchers on a need-to-know basis, and the level of access provided to each researcher is based on the minimal level required by that individual to fulfill his research role.

• Abt Associates will backup the data on a regular basis to safeguard against system failures or disasters. Only encrypted versions of the data will be copied to the backup media. Unencrypted data will never be stored on a laptop or on a movable media such as CDs, diskettes, or USB flash drives.

• If an authorized researcher leaves employment or is no longer working on this project, their user ID and access will be terminated within one day, as will VPN access. These steps will be documented as part of termination process.

• The site interviewers will securely store any hard copy documents with personal protected information, such as signed consent forms, tracking letters, or interview appointment schedules.

Consent Forms. The participation agreement/informed consent and contact information form will be a paper form. After the family signs the informed consent form, the RRHD program staff person will record the participant's contact information in the secure, Web-based study contact database. After the contact information is recorded, the hard copy form will be placed within a sealed envelope and stored temporarily in a locked cabinet in a secure physical location within the RRHD program's administrative office. (If the contact information cannot be immediately recorded in the database, the RRHD program staff will store the signed form in the designated locked cabinet until the staff person is able to record the data. Alternatively, the program can submit the signed form to the Abt Director of Analysis, and Abt research staff can enter the contact information into the study contact database.)

Tracking documentation. The site interviewer will store any tracking letters, appointment schedules, or other documentation with personal protected information, such as name, in a locked cabinet that can only be accessed by the interviewer. Tracking documentation with personal protected information should not be generated until needed in the tracking process to limit risk of unauthorized disclosures. Site interviewers should use study IDs in lieu of personal protected information on tracking documentation whenever feasible to limit risk of unauthorized disclosures.

All hard copy forms with personal identifying data (the participant agreement/informed consent form) will be stored securely in a locked cabinet that can only be accessed by authorized individuals working on the data. The locked cabinet will be stored in a locked office in a limited access building.

Hard copy forms that are no longer needed for the study will be shredded. If site interviewers do not have access to a paper shredder, they will submit the paperwork to the Abt Director of Analysis via FedEx with clear instructions to destroy the documents upon receipt.

Retrieving:

The contact database will include personal identifiers that can be used to locate records to update families' whereabouts during the tracking period. Records within the contact database can be retrieved by name, social security number, study identification number, birthdate, or spouse name.

After data collection is complete, researchers will use a dataset that is stripped of identifying information for all analyses, with the exception of a unique study identification number assigned to each participating family. The study identification number will be randomly generated at the time of random assignment and will be unrelated to personal information such as SSN, DOB, or name. The study identifier can be linked to the personal identifying information but only by a small number of central research staff at Abt Associates.

Retention and disposal:

PII will be maintained only as long as required and only under conditions specified in the study protocol. Upon completion of all research for The Evaluation of the Rapid Re-Housing for Families Demonstration Program, Abt Associates will permanently destroy all electronic personally-identifiable information on the working server using one of the methods described by the NIST SP 800-88 “Guidelines for Media Sanitization” (September 2006). Encrypted versions of the data may remain on backup media for a longer period of time, but will be similarly permanently destroyed.

At the end of the contract, records that do not need to be retained will be shredded and the remainder of the files will be shredded after the three-year retention period required in the contract. The retention and disposal procedures are in keeping with HUD's records management policies as described in 44 USC 3101 and 44 USC 3303.

System manager(s) and address:

Carol Star, Director of the Program Evaluation Division, Office of Policy Development and Research, Department of Housing and Urban Development, 451 Seventh Street SW., Washington, DC 20410, Telephone Number (202) 402-6139.

Notification procedure:

For information, assistance, or inquiry about existence or records, contact Donna Robinson-Stanton, Departmental Privacy Act Officer, Department of Housing and Urban Development, 451 Seventh Street SW., Washington, DC, in accordance with the procedures in 24 CFR part 16.

Record access procedures:

The Department's rules for providing access to records to the individual concerned appear in 24 CFR part 16. If additional information or assistance is required, contact the Privacy Act Officer at the appropriate location.

Contesting record procedures:

The Department's rules for contesting the contents of records and appealing initial denials, by the individual concerned, appear in 24 CFR part 16. If additional information or assistance is needed, it may be obtained by contacting:

(i) In relation to contesting contents of records, the Departmental Privacy Act, Department of Housing and Urban Development, 451 Seventh Street SW., Room 2256, Washington, DC 20410;

(ii) In relation to appeals of initial denials, the HUD Departmental Privacy Appeals Officers, Office of General Counsel, Department of Housing and Urban Development, 451 Seventh Street SW., Washington, DC 20410.

Record source categories:

Original data collected directly from participating families, third party data for tracking purposes (e.g., National Change of Address database, credit bureaus), and administrative data on Homeless Management Information Systems.

Exemption from certain provisions of the Act:

None.

[FR Doc. 2010-24346 Filed 9-27-10; 8:45 am]

BILLING CODE 4210-67-P